DEPARTMENT OF ENERGY

Federal Energy Regulatory Commission

Combined Notice of Filings

Take notice that the Commission has received the following Natural Gas Pipeline Rate and Refund Report filings:

Docket Numbers: RP20-315-000.

Applicants: Equitrans, L.P.

Description: § 4(d) Rate Filing: Equitrans Clean Up Filing—December 2019 to be effective 1/5/2020.

Filed Date: 12/5/19.

Accession Number: 20191205-5085.

Comments Due: 5 p.m. ET 12/17/19.

Docket Numbers: RP20-316-000.

Applicants: Rager Mountain Storage Company LLC.

Description: § 4(d) Rate Filing: RMSC's Clean Up Filing—December 2019 to be effective 1/5/2020.

Filed Date: 12/5/19.

Accession Number: 20191205-5107.

Comments Due: 5 p.m. ET 12/17/19.

Docket Numbers: RP20-317-000.

Applicants: Gulf South Pipeline Company, LP.

Description: § 4(d) Rate Filing: Amendment to Neg Rate Agmt (BP 46444) to be effective 12/6/2019.

Filed Date: 12/5/19.

Accession Number: 20191205-5131.

Comments Due: 5 p.m. ET 12/17/19.

Docket Numbers: RP20-269-001.

Applicants: LA Storage, LLC.

Description: Tariff Amendment: Amendment to Correct Negotiated Non-Conforming Agreement to be effective 12/1/2019.

Filed Date: 12/6/19.

Accession Number: 20191206-5156.

Comments Due: 5 p.m. ET 12/18/19.

Docket Numbers: RP20-318-000.

Applicants: Colorado Interstate Gas Company, L.L.C.

Description: § 4(d) Rate Filing: ATC Update Filing—Young and Totem 2019-2020 to be effective 12/1/2019.

Filed Date: 12/6/19.

Accession Number: 20191206-5142.

Comments Due: 5 p.m. ET 12/18/19.

Docket Numbers: RP20-319-000.

Applicants: Rockies Express Pipeline LLC.

Description: § 4(d) Rate Filing: Neg Rate 2019-12-06 BP E2W to be effective 12/7/2019.

Filed Date: 12/6/19.

Accession Number: 20191206-5184.

Comments Due: 5 p.m. ET 12/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2019.
Nathaniel J. Davis, Sr.,
Deputy Secretary.

[FR Doc. 2019-27085 Filed 12-16-19; 8:45 am]

BILLING CODE 6717-01-P